DEPARTMENT OF THE INTERIOR

Fish and Wildlife Service

[FWS-R8-R-2013-N039; FXRS12610800000V2-134-FF08RSRC00]

Llano Seco Riparian Sanctuary Unit Restoration and Pumping Plant/Fish Screen Facility Protection Project, CA; Final Environmental Impact Statement and Environmental Impact Report

AGENCY: Fish and Wildlife Service, Interior.

ACTION: Notice of availability.

SUMMARY: We, the U.S. Fish and Wildlife Service (Service) and the California Department of Fish and Wildlife (CDFW), announce that the final environmental impact statement and environmental impact report (EIS/EIR) for the Llano Seco Riparian Sanctuary Unit Restoration and Princeton, Codora, Glenn & Provident Irrigation Districts (PCGID-PID) Pumping Plan/Fish Screen Facility Protection Project is now available. The final EIS/EIR, which we prepared and now announce in accordance with the National Environmental Policy Act of 1969 (NEPA), describes the alternatives identified to protect the pumping plant and fish screen facility located at river mile 178.5 on the Sacramento River, and to restore the Riparian Sanctuary Unit of the Sacramento River National Wildlife Refuge.

ADDRESSES: The final EIS/EIR is available at:

• Sacramento National Wildlife Refuge Complex, 752 County Road 99 W, Willows, CA 95988; telephone 530-934-7814.

• River Partners Office, 580 Vallombrosa Avenue, Chico, CA 95926; telephone 530-894-5401.

• Orland Free Library, 333 Mill Street, Orland, CA 95963.

• Chico Branch Library, 1108 Sherman Avenue, Chico, CA 95926.

• CDFW Office, 629 Entler Ave, Suite 12, Chico, CA 95928.

• PCGID-PID Office, 258 South Butte Street, Willows, CA 95988; telephone 530-934-4801.

• Internet: www.fws.gov/sacramentovalleyrefuges/ and http://www.riverpartners.org/where-we-work/sanctuary/documents.html.

FOR FURTHER INFORMATION CONTACT: Kelly Moroney, Refuge Manager, Sacramento River National Wildlife Refuge, 530-934-2801 (phone); kelly_moroney@fws.gov (email), or; Helen Swagerty, River Partners, 530-894-5401 (phone); hswagerty@riverpartners.org (email).

SUPPLEMENTARY INFORMATION:

Background

The Llano Seco Riparian Sanctuary Unit was acquired by the Service in 1991 and added to the Sacramento River National Wildlife Refuge. The Service acquired the Llano Seco Riparian Sanctuary Unit as part of the Joint Management Agreement between Parrot Investment Co., The Nature Conservancy, California Department of Fish and Game, and the Service to cooperatively manage lands on the Llano Seco Ranch. The Llano Seco Riparian Sanctuary Unit is one piece of the larger Llano Seco Ranch, and was cleared of riparian vegetation for agricultural production by the previous landowner during the 1970s. Although the property has been out of agricultural production for close to 15 years, the habitat remains dominated by nonnative and invasive noxious weeds. Currently, just over 200 acres is farmed to dryland row crops to help control nonnative weeds.

Prior to acquisition by the Service, rock revetment was placed on the north end of the Llano Seco Riparian Sanctuary Unit by the Department of Water Resources in 1985 and 1986. The rock was placed in order to lock the Sacramento River in place, ensuring that flood flows would continue to be diverted from the Sacramento River through the Goose Lake overflow structure and into the Butte Basin. When the Service acquired the ranch property in 1991, we did so with the understanding that our management activities would not impact the Goose Lake overflow structure that diverts flood water into the Butte Basin.

Since the placement of rock revetment in 1986, the natural riverbank that is south of the revetment has eroded approximately 600 feet. The erosion on refuge property is directly across from the PCGID-PID pumping plant and fish screening facility. In 1999, the PCGID-PID consolidated three pumping plants into one new facility equipped with state-of-the-art fish screens. The fish-screening efficiency of the new PCGID-PID pumping plant is now endangered by the bank erosion on the refuge property and the migration of the Sacramento River. Although the rock revetment on the north edge of refuge property is decades old and eroding, it plays a key role in protecting the PCGID-PID pumping plant. As the bank erodes, the angle of flow and velocity of the water passing the screens will change, trapping fish against the screen rather than sweeping them past. Without some type of protection, it is likely the bank will continue to erode and the pumping plant facility will fail to meet guidelines for operation of the pumping-plant fish screens that were published by the National Marine Fisheries Service of National Oceanic and Atmospheric Administration (Department of Commerce).

The Draft EIS/EIR was available for a 45-day public review and comment period, which we announced via several methods, including public notices in local newspapers and a notice in the Federal Register (77 FR 26569, May 4, 2012). We held a public meeting to solicit comments on the Draft EIS/EIR on May 30, 2012. We identified and analyzed four alternatives in the Draft EIS/EIR:

Alternative 1: No-Action Alternative

Under the No-Action Alternative, only the ongoing removal and management of invasive plant species would occur at the Riparian Sanctuary. No active restoration of native plants would occur. Maintenance activities for the PCGID-PID pumping plant and fish screens would continue, but no new actions would be taken to prevent river meander.

Alternative 2: Spur Dikes and Site-Specific Plantings

Under Alternative 2, bank protection measures would consist of installing eight rock spur dikes along the Sacramento River on the northern side of the Riparian Sanctuary. The dike field would extend about 2,000 feet in length. The dikes would be spaced 225 feet apart, and each dike would extend 75 feet into the river. Restoration activities on the Riparian Sanctuary would consist of site-specific plantings across 400 acres of the site. Restoration activities would include preparing the site, planting native plants, irrigating plants for the first 3 years, and monitoring and managing the restored area.

Alternative 3: Traditional Riprap and Site-Specific Plantings

Under Alternative 3, bank protection measures would consist of installing riprap with or without a low berm along the Sacramento River on the northern side of the Riparian Sanctuary. Riprap revetment would be installed from the end of the existing riprap upstream for 2,500 to 2,700 feet, to a point almost directly across from the pumping plant and fish screen facility, to protect the riverbank from further erosion. In addition to the site-specific plantings described under Alternative 2, revegetation is proposed on both the bank and low berm areas under this alternative.

Alternative 4: Traditional Riprap With Upstream Rock Removal and Site-Specific Plantings

Under Alternative 4, bank protection measures would consist of installing riprap with or without a low berm along the Sacramento River on the north side of the Riparian Sanctuary as described in Alternative 3, including revegetation on both the bank and low berm. Riparian restoration would take place as described in Alternative 2. In addition, under Alternative 4, we proposed to remove approximately 2,300 linear feet of upstream bank revetment on State- and Service-managed lands along the north side of the peninsula upstream of the Riparian Sanctuary. Removal of the revetment would encourage a natural progression of streambank erosion, and the eventual cutoff of an oxbow. This cut off would allow the river to flow parallel to the pumping plant and fish screen facility, which is the desired alignment for the fish screen to properly function. Installing traditional riprap on the northern side of the Riparian Sanctuary would hold the river in place to prevent it from migrating further east, away from the facility.

Following public review of the Draft EIS/EIR, the Service and CDFG, in coordination with PCGID-PID, river Partners, and the design engineers, identified the preferred alternative, which is based on a combination of the features of Alternative 4. Preferred Alternative: The preferred alternative includes installation of traditional riprap on the northwest bank of the Riparian Sanctuary, including a low berm along the gravel bar and a toe trench just off the gravel bar; removal of upstream rock; and site-specific plantings on the Riparian Sanctuary. The upstream rock removal and site-specific plantings would be the same as described for Alternative 4 in the Draft EIS/EIR. The traditional riprap was designed to incorporate the beneficial features of both the low-berm and no-berm options described in Alternative 4. The traditional riprap without a berm would be located in areas where the channel would be affected to reduce the footprint, and a low berm would be located across the gravel bar and would be planted with native trees, sedges, and grasses, along with large woody debris to provide immediate fish habitat. The traditional riprap under the preferred alternative would involve less excavation than the no-berm option and have a smaller footprint than the low-berm option, resulting in less riprap placement in the Sacramento River. It would incorporate the key benefit of the low-berm option by providing a planting surface for native vegetation.

National Environmental Policy Act Compliance

We will make a decision no sooner than 30 days after the publication of the final EIS/EIR. We anticipate issuing a Record of Decision in the summer of 2013.

We provide this notice under regulations in the Code of Federal Regulations (CFR) for implementing the National Environmental Policy Act (40 CFR 1506.6).

Alexandra Pitts,
Acting, Regional Director, Pacific Southwest Region.

[FR Doc. 2013-06178 Filed 3-15-13; 8:45 am]

BILLING CODE 4310-55-P